DEPARTMENT OF THE INTERIOR

Bureau of Land Management

[LLUTCO3100.L17110000.EB000]

Notice of Intent To Collect Fees on Public Lands in the Red Cliffs National Conservation Area, Washington County, UT

AGENCY: Bureau of Land Management, Interior.

ACTION: Notice.

SUMMARY: Pursuant to the Federal Lands Recreation Enhancement Act (REA), the Bureau of Land Management (BLM) St. George Field Office proposes to establish a new standard amenity recreation fee for day-use of the developed amenities at the White Reef Park, located in the Red Cliffs National Conservation Area (NCA) in Washington County, Utah.

DATES: Effective March 5, 2014, the BLM will begin collecting standard amenity fees at White Reef Park.

ADDRESSES: Mail: NCA Manager, Beaver Dam Wash and Red Cliffs National Conservation Areas, St. George Field Office, Bureau of Land Management, 345 E Riverside Drive, St. George, Utah 84790 or utsgmail@blm.gov.

FOR FURTHER INFORMATION CONTACT: Kyle Voyles, NCA Outdoor Recreation Planner, St. George Field Office, Bureau of Land Management, 345 E. Riverside Drive, St. George, Utah 84790, 435-688-3373, kvoyles@blm.gov. Persons who use a telecommunications device for the deaf (TDD) may call the Federal Information Relay Service (FIRS) at 1-800-877-8339 to leave a message or question with the above individual. The FIRS is available 24 hours a day, seven days a week. You will receive a reply during normal business hours.

SUPPLEMENTARY INFORMATION: Pursuant to the REA (16 U.S.C 6802 (f)), the Secretary may charge a standard amenity recreation fee provided the following specific requirements are met: The area provides significant opportunities for outdoor recreation; the area has substantial Federal investments; the fees can be efficiently collected; and the area includes six required amenities: Designated developed parking, a permanent toilet facility, a permanent trash receptacle, an interpretive sign, exhibit, or kiosk, picnic tables, and security services.

The White Reef Park (located at T. 41 S, R. 14 W., SLM, UT., sec. 23, NW1/4) meets the requirements for a standard amenity fee site. The White Reef Park is comprised of approximately 715 acres of public land within the Red Cliffs NCA and includes a developed day-use area. White Reef Park is fenced and includes designated-parking spaces for 18 vehicles and four pull-through stalls for oversized vehicles. A permanent vault toilet and trash receptacle, regulatory signing, an information kiosk, and a shade shelter with picnic tables are available at the site. Within the White Reef Park is the restored mid-19th century Orson B. Adams House, which offers on-site interpretive materials (panels and brochures) and three designated-vehicle parking spaces, two of which are accessible. Volunteer docents offer regularly-scheduled guided tours of the house and adjacent farmstead. Other interpreted sites in the White Reef Park include the late-19th century W. McMullin farmstead and the 1950's era movie set for Columbia Pictures' film, “They Came to Cordura.” Amenities in the White Reef Park include janitorial, maintenance, law enforcement, and visitor contact services. Additional outdoor recreation opportunities include hiking, mountain biking, and equestrian trail riding on an eight-mile-long designated non-motorized trail system, with links to other, longer-distance trails outside the NCA.

Pursuant to 43 CFR Part 2930, standard amenity fees will be collected through the issuance of a BLM Recreation Use Permit for day-use of the White Reef Park amenities. Fees will be collected through a self-service pay station located at White Reef Park. Visitors holding the America the Beautiful—The National Parks and Federal Recreational Lands Interagency Senior Pass (Golden Age Passport) or Interagency Access Pass (Golden Access Passport) will be entitled to a 50 percent discount on standard amenity recreation fees.

On February 22, 2013, the Utah Recreation Resource Advisory Committee (RRAC) reviewed and unanimously approved the proposal to establish a new fee site at the White Reef Park where standard amenity fees for day-use would be collected. Standard amenity fees for the White Reef Park will be $5 per vehicle, and would only be adjusted after appropriate public notice and involvement, and additional consultation with the Utah RRAC.

The February 2013, Red Cliffs Recreation Area Business Plan was prepared by the BLM to address fee collection, site operation, and proposed fee expenditures for White Reef Park. Copies of the Red Cliffs Recreation Area Business Plan are available at the Interagency Visitor Center in St. George, Utah. Fee amounts will be posted at a pay station kiosk at the White Reef Park, included in the Red Cliffs Recreation Area information brochure, available at the Interagency Visitor Center, and posted on the BLM St. George Field Office Web site.

Authority: 16 U.S.C. 6801 et seq.

Jenna Whitlock,
Associate State Director.

[FR Doc. 2013-21584 Filed 9-4-13; 8:45 am]

BILLING CODE 4310-DQ-P